DEPARTMENT OF AGRICULTURE

Forest Service

Ponderosa Pine Restoration Project, Coeur d'Alene River Ranger District, Idaho Panhandle National Forests, Kootenai and Shoshone Counties, ID

AGENCY: Forest Service, USDA.

ACTION: Cancellation notice.

SUMMARY: On March 12, 2002, a Notice of Intent (NOI) to prepare an environmental impact statement for the Ponderosa Pine Restoration Area Project was published in the Federal Register (Volume 67, Number 48, pages 11089-11090). Since notice of the project proposal was published before receiving approval to proceed from the agency's Washington Office, the NOI is hereby rescinded.

FOR FURTHER INFORMATION CONTACT: Sarah Jerome, Project Team Leader, Coeur d'Alene River Ranger District, (208) 664-2318.

Dated: March 29, 2002.
Ranotta K. McNair,
Forest Supervisor.

[FR Doc. 02-8221 Filed 4-4-02; 8:45 am]

BILLING CODE 3410-11-M